POSTAL RATE COMMISSION

[Docket No. MC2006-2; Order No. 1452]

Repositionable Notes Minor Classification Changes

AGENCY: Postal Rate Commission.

ACTION: Notice and order.

SUMMARY: This document establishes a formal docket to consider extending the one-year Repositionable Notes market test beyond its scheduled expiration in early April 2006. The Service seeks the extension because it had planned to file a new request involving a modified Repositionable Notes service prior to the expiration of the current test, but would like to complete a review of a recently-filed academic research paper before doing so. Extending the current test would allow this review to take place and for the anticipated new request to be adjusted, if warranted, without the disruption associated with expiration of the current test.

DATES: See Supplementary Information for dates.

ADDRESSES: Submit comments electronically via the Commission's Filing Online system at http://www.prc.gov.

FOR FURTHER INFORMATION CONTACT: Stephen L. Sharfman, general counsel, at 202-789-6818.

SUPPLEMENTARY INFORMATION:

Regulatory History

Docket No. MC2004-5, 68 FR 45353 (July 29, 2004).

I. Background

Notice is hereby given that on January 12, 2006, the Postal Service filed a request with the Postal Rate Commission pursuant to section 3623 of the Postal Reorganization Act, 39 U.S.C. 101 et seq., for a recommended decision on its request for an extension of the current provisional Repositionable Notes (RPN) service.¹ The Postal Service denominates this request a minor classification change and seeks to have it considered under the Commission's rules for expedited minor classification cases (39 CFR 3001.69).

¹ Request of the United States Postal Service for a Recommended Decision on Change of Expiration Date for Provisional Repositionable Notes Classifications and Rates, filed January 12, 2006.

The Postal Service's extension request indicates that it had been finalizing a request for further testing of a modified RPN service that would address the suggestions made by the Commission in its Opinion in Docket No. MC2004-5. The request observes that on January 6, 2006, the Postal Service received a copy of the Commission-sponsored white paper addressing various issues raised by the RPN service from an academic perspective. The request states that the Postal Service decided to delay finalizing its request for a modified RPN service in order to incorporate consideration of the white paper. The Postal Service explains its decision to incorporate consideration of the white paper in its request makes it impossible to process a request for testing of a modified RPN service prior to the scheduled expiration of the provisional RPN service on April 3, 2006. The Postal Service asks the Commission to approve an extension of that service in order to avoid disruption to customers that would be caused by termination of the provisional RPN service on April 3, 2006, pending consideration of the next phase of the service.

The Postal Services proposes that the status quo continue until a replacement provisional or permanent service is implemented, or, if no such service is implemented, three months after the Commission takes action on a Postal Service request to implement such a service. If the Postal Service does not file such a request, the proposal is that the provisional service expire on April 3, 2007. See page 2 and Attachment A of the Request. The request includes attachments and is supported by the testimony of witness Kirk Kaneer. It also includes a conditional motion for waiver of rule 64 of our rules of practice, if material incorporated from Docket No. R2005-1 is not considered adequate to satisfy that rule. The request is on file in the Commission's docket room for inspection during regular business hours and is available on the Commission's Web site at http://www.prc.gov.

II. Settlement

Proposed settlement procedures. The Postal Service requests that the Commission establish settlement procedures in this proceeding. It argues that settlement of issues surrounding its request is appropriate, since the purpose of the extension of the status quo is to allow a modified RPN service to reflect the white paper and the public dialogue that the white paper is intended to foster to be considered in designing the modified service.

The Commission will appoint Postal Service counsel to serve as settlement coordinator in this proceeding. In this capacity, counsel for the Postal Service shall report on the status of settlement discussions at the prehearing conference. The Commission will make its hearing room available for settlement conferences at such times deemed necessary by the settlement coordinator. If someone intervenes after a settlement conference is held, the settlement coordinator could brief such person on the substance of the conference.

III. Expedition

Further procedures. Rule 69b affords all interested parties 26 days after filing of the Postal Service's request (February 7, 2006) to intervene and respond to the Postal Service's proposal to have this request considered under the expedited procedures of rule 69. On February 8, 2006, the Commission will determine if expedited rule 69 procedures are appropriate. If the Commission determines that they are, intervenors will have until February 23, 2006, to state with specificity those issues of material fact, if any, that they contend require a hearing, the period that rule 69b(h) allows. They may make their statement in writing, or orally at the prehearing conference, provisionally scheduled for February 23. If the Commission determines that hearings are warranted, they will commence on March 1, 2006, the period that rule 69b(i) allows. If no hearing is necessary, a recommended decision will be issued promptly.

IV. Public Participation

Public participation. In conformance with section 3624(a) of title 39, the Commission designates Shelley S. Dreifuss, director of the Commission's Office of the Consumer Advocate (OCA), to represent the interests of the general public in this proceeding. Pursuant to this designation, Ms. Dreifuss will direct the activities of Commission personnel assigned to assist her and, upon request, will supply their names for the record. Neither Ms. Dreifuss nor any of the assigned personnel will participate in or provide advice on any Commission decision in this proceeding.

V. Ordering Paragraphs

It is ordered:

1. The Commission establishes Docket No. MC2006-2 to consider the Postal Service Request referred to in the body of this order.

2. The Commission will act en banc in this proceeding.

3. Notices of intervention shall be filed no later than February 7, 2006.

4. Shelley S. Dreifuss, director of the Commission's Office of the Consumer Advocate, is designated to represent the interests of the general public.

5. Answers to the Postal Service's Conditional Motion for Waiver of the portions of rule 64 are due on February 7, 2006.

6. Postal Service counsel is appointed to serve as settlement coordinator in this proceeding. The Commission will make its hearing room available for settlement conferences at such times deemed necessary by the settlement coordinator.

7. A prehearing conference is provisionally scheduled for February 23, 2006, at 11 a.m. in the Commission's hearing room.

8. Participants who wish to request a hearing on the Postal Service's request in this docket to extend its market test shall submit such a request, together with statements in conformance with 39 CFR 3001.69b(h) on or before February 23, 2006.

9. The Secretary shall cause this notice and order to be published in the Federal Register.

By the Commission.
Steven W. Williams,
Secretary.

[FR Doc. 06-609 Filed 1-23-06; 8:45 am]

BILLING CODE 7710-FW-P